DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: 2009 NOAA Coastal Services Center Coastal Resource Management Customer Survey.

OMB Control Number: 0648-0308.

Form Number(s): None.

Type of Request: Regular submission.

Burden Hours: 31.

Number of Respondents: 500.

Average Hours per Response: 15 minutes.

Needs and Uses: In continuing compliance with Executive Order 12862, Setting Customer Service Standards, this survey will be used by the NOAA Coastal Services Center to obtain information from our customers—State and territorial coastal resource managers—regarding their information needs based on their coastal resource management responsibilities, technology and information management capabilities, and critical resource management issues, in order to make quality improvements to the Center's products and services.

Frequency: Once every three years.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 18, 2009.
Gwellnar Banks,
Management Analyst, Office of the Chief Information Officer.

[FR Doc. E9-11959 Filed 5-21-09; 8:45 am]

BILLING CODE 3510-JE-P